COMMISSION ON CIVIL RIGHTS

Notice of Public Meeting of the Wisconsin Advisory Committee To Hear Testimony Regarding Civil Rights and Hate Crimes in Wisconsin

AGENCY: U.S. Commission on Civil Rights.

ACTION: Announcement of meeting.

SUMMARY: Notice is hereby given, pursuant to the provisions of the rules and regulations of the U.S. Commission on Civil Rights (Commission) and the Federal Advisory Committee Act that the Wisconsin Advisory Committee (Committee) will hold a meeting on Monday, July 29, 2016, from 1:00 p.m.-4:30 p.m. CDT. The Committee will hear testimony regarding civil rights and hate crimes in the state.

DATES: The meeting will be held on Monday August 29, 2016, from 1:00 p.m.-4:30 p.m. CDT.

ADDRESSES: This meeting is open to the public, and will take place at the Hampton Inn and Suites Conference Center, 8201 W. Greenfield Avenue, West Allis, WI 53214. Members of the public are invited to make statements during the open comment period beginning at 4:00 p.m. In addition, members of the public may submit written comments; the comments must be received in the regional office within 30 days following the meeting. Written comments may be mailed to the Regional Programs Unit, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records and documents discussed during the meeting will be available for public viewing priorto and following the meeting at https://database.faca.gov/committee/meetings.aspx?cid=282 and following the links for “Meeting Details” and then “Documents.” Records generated from this meeting may also be inspected and reproduced at the Regional Programs Unit, as they become available, both before and after the meeting. Persons interested in the work of this Committee are directed to the Commission's Web site, http://www.usccr.gov, or may contact the Regional Programs Unit at the above email or street address.

FOR FURTHER INFORMATION CONTACT: Melissa Wojnaroski, DFO, at 312-353-8311 or mwojnaroski@usccr.gov.

SUPPLEMENTARY INFORMATION:

Agenda

Opening Remarks and Introductions (1:00 p.m.-1:10 p.m.)

Panel 1: Academic (1:10 p.m.-2:25 p.m.)

Panel 2: Community (2:40 p.m.-3:55 p.m.)

Open Forum * (4:00 p.m.-4:30 p.m.)

Closing Remarks (4:30 p.m.)

* Open forum may be extended as necessary to accommodate additional testimony.

Dated July 29, 2016.
David Mussatt,
Chief, Regional Programs Unit.

[FR Doc. 2016-18442 Filed 8-4-16; 8:45 am]

BILLING CODE 6335-01-P